DEPARTMENT OF HEALTH AND HUMAN SERVICES

Administration for Children and Families

Submission for OMB Review; Comment Request

Title: ACF Uniform Project Description.

OMB No.: 0970-0139.

Description: The Administration for Children and Families (ACF) has more than 50 discretionary grant programs. The proposed information collection form would be a uniform discretionary application form eligible for use by grant applicants to submit project information in response to ACF program announcements. ACF would use this information, along with other OMB-approved information collections, to evaluate and rank applicants and protect the integrity of the grantee selection process. All ACF discretionary grant programs would be eligible but not required to use this application form. The application consists of general information and instructions; the Standard Form 424 series that requests basic information, budget information and assurances; the Project Description requesting the applicant to describe how these objectives will be achieved; along with assurances and certifications. Guidance for the content of information requested in the Project Description is found in OMB Circular A-102 and 45 CFR Part 74.

Respondents: Applicants for ACF Discretionary Grant Programs.

Annual Burden Estimates
Instrument | Number of respondents | Number of responses per respondent | Average burden hours per response | Total burden hours
UPD | 6,752 | 1 | 40 | 270,080

Estimated Total Annual Burden Hours: 270,080

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: August 6, 2009.
Janean Chambers,
Reports Clearance Officer.

[FR Doc. E9-19170 Filed 8-10-09; 8:45 am]

BILLING CODE 4184-01-P